DEPARTMENT OF EDUCATION

Applications for New Awards; Pathways to STEM Apprenticeship for High School Career and Technical Education Students

AGENCY: Office of Career, Technical, and Adult Education, Department of Education.

ACTION: Notice.

SUMMARY: The Department of Education (Department) is issuing a notice inviting applications for new awards for fiscal year (FY) 2018 for the Pathways to STEM Apprenticeship for High School Career and Technical Education Students demonstration program, Catalog of Federal Domestic Assistance (CFDA) number 84.051E.

DATES:

Applications Available: May 18, 2018.

Deadline for Notice of Intent to Apply: June 18, 2018.

Date of Pre-Application Webinar: For information about a pre-application webinar, visit the Perkins Collaborative Resource Network (PCRN) at http://cte.ed.gov/.

Deadline for Transmittal of Applications: July 17, 2018.

Deadline for Intergovernmental Review: September 17, 2018.

ADDRESSES: For the addresses for obtaining and submitting an application, please refer to our Common Instructions for Applicants to Department of Education Discretionary Grant Programs, published in the Federal Register on February 12, 2018 (83 FR 6003), and available at www.gpo.gov/fdsys/pkg/FR-2018-02-12/pdf/2018-02558.pdf.

FOR FURTHER INFORMATION CONTACT: Erin Berg, U.S. Department of Education, 400 Maryland Avenue SW, Potomac Center Plaza (PCP), Room 11136, Washington, DC 20202-7241. Telephone: (202) 245-6792. Email: PathwaysToApprenticeship@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Pathways to STEM Apprenticeship for High School Career and Technical Education (CTE) Students (Pathways to STEM Apprenticeship grants) demonstration program is to support State efforts to expand and improve the transition of high school CTE Students ¹ to postsecondary education and employment through Apprenticeships in science, technology, engineering, and mathematics (STEM) fields, including Computer Science, that begin during high school.

¹ Throughout this notice, all defined terms are denoted with capitals.

Background: Through this initiative, funded under section 114(c) of the Carl D. Perkins Career and Technical Education Act (Perkins Act), we will award competitive grants to States to support technical assistance, program development, and other capacity-building activities that will strengthen the connections between high school CTE programs and Competency-Based Apprenticeship opportunities in STEM fields and increase the number of high school CTE Students who enter such Apprenticeships during high school.

Combining paid on-the-job learning with related CTE instruction in the classroom, an Apprenticeship offers individuals the opportunity to earn money as they learn and prepare for jobs that pay wages that can support a family. The average income for a worker who has completed an Apprenticeship program is $60,000 a year, according to December 2017 Labor Department data.² A 2012 study funded by the Department of Labor used a quasi-experimental research design to compare the earnings of Apprenticeship participants in 10 States with the earnings of nonparticipants, adjusting for differences in pre-enrollment earnings and demographic characteristics.³ Researchers found that, in the sixth year after enrollment, individuals who completed an Apprenticeship earned $14,404 more than their counterparts who did not participate in an Apprenticeship. Even individuals who participated in an Apprenticeship but did not complete it earned more than individuals who did not enroll in an Apprenticeship.⁴ Because employers or Apprenticeship program sponsors often pay the costs of the classroom instruction, as well as pay participants' wages, apprentices incur little or no debt, making an Apprenticeship an attractive career preparation alternative at a time when many college students are graduating deeply in debt. For these reasons, President Trump has challenged the Nation to expand significantly the number of Apprenticeship opportunities, including those available to America's high school students.⁵

² Apprenticeship Toolkit, U.S. Department of Labor. Retrieved from: www.dol.gov/apprenticeship/pdf/RA-WS-Partnerships.pdf.

³ Reed, D. et al. An Effectiveness Assessment and Cost-Benefit Analysis of Registered Apprenticeship in 10 States. Washington, DC: Mathematica Policy Research. (2012). Retrieved from: www.mathematica-mpr.com/our-publications-and-findings/publications/an-effectiveness-assessment-and-costbenefit-analysis-of-registered-apprenticeship-in-10-states.

⁴ Ibid.

⁵ Trump, Donald, J., Executive Order 13801, 82 FR 28229. (June 15, 2017).

Over the last two decades, the United States has made great progress in creating dual enrollment opportunities that enable students to earn college credit while they are still enrolled in high school. However, we have not been as successful in making Apprenticeships—another important postsecondary option—accessible to students during high school. While youth in Austria, Germany, Switzerland, and other nations are able to begin an Apprenticeship while still in high school, the Apprenticeship system in the United States does not have strong connections to high schools, including to high school CTE programs, and serves very few individuals under the age of 25.⁶ The U.S. Department of Labor has reported that the average age of Registered Apprenticeship participants nationally is approximately 28 years.⁷ In the Department of Labor's 10-State study, the average age for apprentices was even higher, 30.3 years for males and 34.9 years for females.⁸ This suggests that few young people are pursuing Apprenticeship opportunities in high school or immediately following high school graduation. Through the Pathways to STEM Apprenticeship grants, we seek to change this pattern in participating States.

⁶ Lerman, Robert I. Expanding Apprenticeship Opportunities in the United States. The Hamilton Project. (June 2014). Retrieved from: www.hamiltonproject.org/assets/legacy/files/downloads_and_links/policies_address_poverty_in_america_full_book.pdf#page=81.

⁷ ApprenticeshipUSA Toolkit, U.S. Department of Labor. (2017). Retrieved from: Apprenticeshipusa.workforcegps.org/-/media/WorkforceGPS/21stcenturyapprenticeship/Files/Apprenticeship-ROI-Research-and-Statistics.ashx?la=en.

⁸ Reed, D. et al. An Effectiveness Assessment and Cost-Benefit Analysis of Registered Apprenticeship in 10 States. Washington, DC: Mathematica Policy Research. (2012). Retrieved from: https://www.mathematica-mpr.com/our-publications-and-findings/publications/an-effectiveness-assessment-and-costbenefit-analysis-of-registered-Apprenticeship-in-10-states.

Pathways to STEM Apprenticeship grants will fund State-level efforts that support local or regional approaches to establishing Apprenticeship programs for high school CTE Students or that support efforts to implement or expand coordinated Apprenticeship programming for high school CTE Students. Such efforts may include, for example, multi-State consortia that may be most advantageous in areas where States share an interest in developing Apprenticeships in the same industry sectors and where employers have a presence in those States. We anticipate that States also may identify and address legal or policy barriers to increasing the number of high school CTE Students who enroll in Apprenticeship programs, such as minimum age requirements and safety or liability regulations that limit participation of high school students.

We require that projects be carried out in partnership with at least one employer and at least one postsecondary partner, such as a State Agency for Higher Education or one or more Postsecondary Educational Institutions. Because employers identify the skills that apprentices must learn, sponsor apprentices, pay wages, and provide on-the-job training, collaboration with employers is critical in developing and sustaining Apprenticeship pathways. Involving postsecondary partners, such as aa State Agency for Higher Education or one or more Postsecondary Educational Institutions is essential because most of the related CTE instruction provided in an Apprenticeship is developed and delivered by such entities.⁹ They also may be helpful in making Apprenticeship programs more attractive to high school students by embedding dual credit opportunities in an Apprenticeship program so that high school students who decide against continuing in an Apprenticeship after graduation will have other postsecondary options. Moreover, in some States, the community and technical college system has taken a lead role in developing and expanding Apprenticeship opportunities as well as in providing postsecondary credit for knowledge acquired during an Apprenticeship that counts towards a degree or other credential.¹⁰

⁹ Lerman, et. al., “The Benefits and Challenges of Registered Apprenticeship: The Sponsors' Perspective.” The Urban Institute. (2009). Retrieved from: www.urban.org/sites/default/files/publication/30416/411907-The-Benefits-and-Challenges-of-Registered-Apprenticeship-The-Sponsors-Perspective.PDF.

¹⁰ Hanks, Angela and Gurwitz, Ethan, “How States Are Expanding Apprenticeship.” Center for American Progress. (February 2016). Retrieved from: www.luminafoundation.org/files/resources/how-states-are-expanding-Apprenticeship.pdf.

High schools can also be an important partner in expanding Apprenticeship opportunities through curriculum alignment, program articulation, and other activities designed to ensure that CTE Students are well positioned to enter and succeed within Apprenticeships. Well-aligned programs at the high school level may allow CTE Students to complete Apprenticeships at a faster pace or at a younger age than their adult peers. When an Apprenticeship is aligned to fit within, or be a natural extension of, a CTE program starting in high school, students may be better positioned to enter an Apprenticeship and persist once enrolled.

In addition, States may also wish to partner with State workforce development agencies, local workforce development boards, nonprofit and community organizations, chambers of commerce, and other industry organizations. State and local workforce development agencies may have existing relationships with employers and programming related to apprenticeships. Other organizations, including nonprofit and community organizations, may also have relationships with employers and may be able to assist in offering other supports, such as assisting CTE Students participating in Apprenticeships in purchasing work clothing or paying for transportation costs.

We further require that the Apprenticeship programs developed by grantees be Competency-Based Apprenticeships, rather than time-based, so that participants progress through the program by demonstrating mastery of the essential knowledge and skills taught in an Apprenticeship, rather than by completing a minimum number of hours. Competency-Based Apprenticeships have several advantages over time-based programs. They support accelerated program completion for some individuals, while also accommodating those individuals, which may include some persons with disabilities, who may need more time to master a skill than a time-based program may allow. Students who have developed knowledge and skills through prior educational or work experience, such as the completion of a related high school or postsecondary CTE course, could enter a competency-based program with advanced standing. Organizing an Apprenticeship program around job functions and competencies also benefits an employer because it enables apprentices to become fully proficient in at least one relevant job function, making them more productive employees more swiftly than would occur in a time-based program.¹¹

¹¹ Jones, D.A. and Lerman, R. Starting a Registered Apprenticeship Program: A Guide for Employers or Sponsors. The Urban Institute. (2017).

We also include an absolute priority that requires that projects be designed to improve student achievement or educational outcomes through the creation or expansion of partnerships to give students access to Apprenticeships in STEM fields, including Computer Science. Connecting high school CTE Students with career opportunities in industries in STEM sectors, such as cybersecurity, information technology, advanced manufacturing, and health care, is a key focus of this initiative. Equipping more students with recognized postsecondary credentials in STEM is essential to promoting innovation and economic growth. According to the Bureau of Labor Statistics, in May 2016, there were 8.8 million STEM jobs, representing 6.3 percent of U.S. employment.¹² Half of all STEM jobs do not require a four-year college degree; however, many of these jobs require specialized training. STEM jobs that require less than a bachelor's degree pay higher wages than non-STEM jobs with similar educational requirements.¹³ For example, an analysis of 2013 entry-level job postings by Burning Glass Technologies found that the average advertised entry-level salary for jobs requiring a sub-baccalaureate credential was $47,856 for STEM jobs and $37,424 for non-STEM jobs.¹⁴ Apprenticeships that begin in high school can be used as a tool to help CTE Students learn the skills needed to prepare for these STEM jobs without incurring the full costs of traditional postsecondary education or training.

¹² The Economics Daily, U.S. Bureau of Labor and Statistics. (July 6, 2017). Retrieved from: www.bls.gov/opub/ted/2017/8-point-8-million-science-technology-engineering-and-mathematics-stem-jobs-in-may-2016.htm?view_full.

¹³ Ibid.

¹⁴ Real-Time Insight into the Market for Entry-Level STEM Jobs, Burning Glass Technologies (2104). Retrieved from: www.burning-glass.com/wp-content/uploads/Real-Time-Insight-Into-The-Market-For-Entry-Level-STEM-Jobs.pdf.

Applicants are encouraged to align and leverage various sources of funds, including State and local funds as well as other Federal funding streams, for activities that supplement or complement their proposed projects. For example, an applicant could propose to use State leadership funds available to it under the Perkins Act to improve or develop new CTE courses that will be used for the related instruction component of an Apprenticeship or for professional development for the teachers or postsecondary instructors who will provide the related CTE instruction. Similarly, at the local level, funds available under the Workforce Innovation and Opportunity Act (WIOA) Title I Youth program may be used for pre-apprenticeship programs for youth who are eligible for the WIOA Title I Youth program. Applicants should note that selection criterion (a)(2) evaluates the extent to which a proposed project will integrate with or build on similar or related efforts to improve relevant outcomes (as defined in 34 CFR 77.1(c)), using existing funding streams from other programs or policies supported by community, State, and Federal resources. Additionally, selection criterion (c)(3) assesses the potential for continued support of the project after Federal funding ends, including, as appropriate, the demonstrated commitment of appropriate entities to such support.

Priorities: This notice contains one absolute priority and an invitational priority. The absolute priority is from the Secretary's Final Supplemental Priorities and Definitions for Discretionary Grant Programs, published on March 2, 2018 (83 FR 9096) (Secretary's Supplemental Priorities).

Absolute Priority: For FY 2018 and any subsequent year in which we make awards from the list of unfunded applications from this competition, this priority is an absolute priority. Under 34 CFR 75.105(c)(3) we consider only applications that meet this absolute priority.

The priority is:

Promoting STEM Education, With a Particular Focus on Computer Science.

Projects designed to improve student achievement or other educational outcomes in one or more of the following areas: Science, technology, engineering, math, or Computer Science. These projects must address the following priority area:

Creating or expanding partnerships between schools, local educational agencies, State educational agencies, businesses, not-for-profit organizations, or institutions of higher education to give students access to internships, apprenticeships, or other work-based learning experiences in STEM fields, including Computer Science.

Invitational Priority: For FY 2018 and any subsequent year in which we make awards from the list of unfunded applications from this competition, this priority is an invitational priority. Under 34 CFR 75.105(c)(1), we do not give an application that meets this invitational priority any preference over other applications.

This priority is:

Rural Local Educational Agencies (Rural LEAs).

The Secretary is particularly interested in receiving applications that propose a State-wide or regional approach to increasing the number of high school CTE students who begin to participate in Apprenticeships in STEM fields, including Computer Science, during high school in LEAs that are eligible for assistance under the Small Rural School Achievement program or the Rural and Low-Income School program authorized under Title V, Part B of the Elementary and Secondary Education Act of 1965, as amended by the Every Student Succeeds Act.

Note: Eligible applicants may determine whether a particular LEA is eligible for these programs by referring to information on the Department's website at www2.ed.gov/nclb/freedom/local/reap.html.

Requirements: We are establishing the following two program requirements and two application requirements for the FY 2018 grant competition and any subsequent year in which we make awards from the list of unfunded applications from this competition, in accordance with section 437(d)(1) of the General Education Provisions Act (GEPA), 20 U.S.C. 1232(d)(1).

The program requirements are:

Program Requirement 1—Partnership.

A grantee must carry out a Pathways to STEM Apprenticeship grant in collaboration with—

(a) At least one employer in the State that has committed to implementing Apprenticeships; and

(b) One or more postsecondary partners, such as the State Agency for Higher Education, or one or more Postsecondary Educational Institutions.

Program Requirement 2—Implementation of a Comprehensive STEM Apprenticeship Pathway Strategy for High School CTE Students.

A grantee must carry out a comprehensive Pathways to STEM Apprenticeship grant strategy that seeks to increase the number of CTE Students who participate in Competency-Based Apprenticeships while enrolled in high school.

(a) Such strategies must be designed to—

(1) Give State, regional, or local employers a leadership role in designing, expanding, and implementing the strategy; and

(2) Address barriers to participation in Competency-Based Apprenticeships for Special Populations, which may include:—

(A) Individuals with disabilities, including students with disabilities receiving services under Section 504 of the Rehabilitation Act of 1973 (Section 504) (commonly referred to as Section 504-only students), students with disabilities identified as a Child with a Disability under section 602(3) of the Individuals with Disabilities Education Act (IDEA), and individuals with any disability defined in section 3 of the Americans with Disabilities Act of 1990;

(B) Individuals from economically disadvantaged families, including foster children;

(C) Individuals preparing for occupations or fields of work, including careers in computer science, technology, and other current and emerging high skill occupations, for which individuals from one gender comprise less than 25 percent of the individuals employed in each such occupation or field of work;

(D) Single parents, including single pregnant women;

(E) Displaced homemakers; and

(F) Individuals with limited English proficiency.

(b) Such strategies may include—

(1) Providing technical assistance to entities such as LEAs, postsecondary educational institutions, and employers;

(2) Coordinating State-level or multi-State-level efforts to expand Competency-Based Apprenticeship opportunities for high school CTE Students, such as through coordination with other entities, such as a State Apprenticeship agency, or with industry and labor organizations and businesses to develop Competency-Based Apprenticeship programming in new sectors or industries;

(3) Developing or supporting the development of curricula that can be used for the related CTE instruction component of Competency-Based Apprenticeship programs;

(4) Providing support for professional development for teachers, postsecondary instructors, employers, training providers, and others to promote the development and implementation of new Competency-Based Apprenticeship opportunities;

(5) Supporting the development and implementation of articulation agreements and other processes to award postsecondary credit for the completion of CTE courses and Competency-Based Apprenticeship programs, such as dual credit and transcripted credit;

(6) Providing information about Competency-Based Apprenticeship opportunities to the public, including to students and their families;

(7) Providing subgrants to LEAs and postsecondary educational institutions to assist in creating or expanding opportunities for CTE Students to participate in Competency-Based Apprenticeships beginning in high school; and

(8) Other activities that are designed to increase opportunities for high school CTE Students to participate in Competency-Based Apprenticeships beginning in high school.

Note: In addition, under 34 CFR 75.591, all grantees must cooperate in any evaluation of the program conducted by the Department.

The application requirements are:

Application Requirement 1—Letter of Commitment from Postsecondary Partner.

An applicant must identify its postsecondary partner or partners, such as a State Agency for Higher Education, or a Postsecondary Educational Institution or Institutions, in its application and include a letter of commitment from each postsecondary partner.

Application Requirement 2—Employer Partner Letter of Commitment.

An applicant must include a letter of commitment from each employer partner.

Definitions:

The definitions of Career and Technical Education, Institution of Higher Education, and Postsecondary Educational Institution and Special Populations are from section 3 of the Perkins Act (20 U.S.C. 2301 et seq.). The definition of Computer Science is from the Secretary's Supplemental Priorities. The definition of Apprenticeship is from Executive Order 13801. We are establishing the definitions for Apprenticeship, Career and Technical Education Student, Competency-Based Apprenticeship, and State Agency for Higher Education for the FY 2018 grant competition and any subsequent year in which we make awards from the list of unfunded applications from this competition, in accordance with section 437(d)(1) of GEPA, 20 U.S.C. 1232(d)(1).

Apprenticeship means an arrangement that includes a paid-work component and an educational or instructional component, wherein an individual obtains workplace-relevant knowledge and skills.

Career and Technical Education means organized educational activities that—

(a) Offer a sequence of courses that—

(1) Provides individuals with coherent and rigorous content aligned with challenging academic standards and relevant technical knowledge and skills needed to prepare for further education and careers in current or emerging professions;

(2) Provides technical skill proficiency, an industry-recognized credential, a certificate, or an associate degree; and

(3) May include prerequisite courses (other than a remedial course) that meet the requirements of this definition; and

(b) Include competency-based applied learning that contributes to the academic knowledge, higher-order reasoning and problem-solving skills, work attitudes, general employability skills, technical skills, and occupation-specific skills, and knowledge of all aspects of an industry, including entrepreneurship, of an individual.

Career and Technical Education (CTE) Student means a student who is enrolled or has been enrolled in at least one CTE course.

Competency-Based Apprenticeship means an Apprenticeship program that enables apprentices to progress through and complete the program by demonstrating mastery of the knowledge and skills taught in the program, rather than complete a minimum number of work or instructional hours.

Computer Science means the study of computers and algorithmic processes and includes the study of computing principles and theories, computational thinking, computer hardware, software design, coding, analytics, and computer applications.

Computer Science often includes computer programming or coding as a tool to create software, including applications, games, websites, and tools to manage or manipulate data; or development and management of computer hardware and the other electronics related to sharing, securing, and using digital information.

In addition to coding, the expanding field of Computer Science emphasizes computational thinking and interdisciplinary problem-solving to equip students with the skills and abilities necessary to apply computation in our digital world.

Computer Science does not include using a computer for everyday activities, such as browsing the internet; use of tools like word processing, spreadsheets, or presentation software; or using computers in the study and exploration of unrelated subjects.

Institution of Higher Education (IHE) means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes—(1) Any school that provides not less than a 1-year program of training to prepare students for gainful employment in a recognized occupation and that meets the provisions of paragraphs (1), (2), (4), and (5) of subsection (a) of this definition; and

(2) A public or nonprofit private educational institution in any State that, in lieu of the requirement in subsection (a)(1) of this definition, admits as regular students individuals—

(A) Who are beyond the age of compulsory school attendance in the State in which the institution is located; or

(B) Who will be dually or concurrently enrolled in the institution and a secondary school.

Postsecondary Educational Institution means—

(a) An IHE that provides not less than a 2-year program of instruction that is acceptable for credit toward a bachelor's degree;

(b) A tribally controlled college or university; or

(c) A nonprofit educational institution offering certificate or Apprenticeship programs at the postsecondary level.

Special Populations means—

(a) Individuals with disabilities;

(b) Individuals from economically disadvantaged families, including foster children;

(c) Individuals preparing for non-traditional fields;

(d) Single parents, including single pregnant women;

(e) Displaced homemakers; and

(f) Individuals with limited English proficiency.

State Agency for Higher Education means any State agency, board, commission, or other entity that coordinates or governs public institutions of higher education in a State.

Waiver of Proposed Rulemaking: Under the Administrative Procedure Act (5 U.S.C. 553), the Department generally offers interested parties the opportunity to comment on proposed definitions and requirements. Section 437(d)(1) of GEPA, however, allows the Secretary to exempt from rulemaking requirements, regulations governing the first grant competition under a new or substantially revised program authority. This is the first grant competition to address high school CTE Apprenticeships under section 114(c)(1) of the Perkins Act, and therefore qualifies for this exemption. In order to ensure timely grant awards, the Secretary has decided to forgo public comment on the definitions and requirements under section 437(d)(1) of GEPA. The definitions and requirements will apply to the FY 2018 grant competition and any subsequent year in which we make awards from the list of unfunded applications from this competition.

Program Authority: 20 U.S.C. 2324.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) Secretary's Supplemental Priorities.

Note: The regulations in 34 CFR part 86 apply to IHEs only.

II. Award Information

Type of Award: Discretionary grants.

Estimated Available Funds: $3,000,000.

Estimated Range of Awards: $500,000-$750,000 for one 36-month project period.

Estimated Average Size of Awards: $600,000.

Estimated Number of Awards: 5.

Note: The Department is not bound by any estimates in this notice.

Project Period: Up to 36 months. Applicants under this competition are required to provide detailed budget information for each year of the proposed project and for the total grant.

III. Eligibility Information

1. Eligible Applicants: The following entities are eligible to apply under this competition:

(a) A State board designated or created consistent with State law as the sole State agency responsible for the administration of CTE in the State or for the supervision of the administration of CTE in the State.

(b) A consortium of entities, individually eligible under (a) above.

Note: Eligible applicants proposing to apply for funds as a consortium must comply with the regulations in 34 CFR 75.127 through 75.129, which address group applications.

2. a. Cost Sharing or Matching: This program does not require cost sharing or matching.

b. Supplement-not-Supplant: This program is subject to supplement-not-supplant funding requirements. In accordance with section 311(a) of the Perkins Act, 20 U.S.C. 2391(a), funds under this program may not be used to supplant non-Federal funds used to carry out CTE activities. Further, the prohibition against supplanting also means that grantees will be required to use their negotiated restricted indirect cost rates under this program. (34 CFR 75.563)

3. Subgrantees: Under 34 CFR 75.708(b) and (c) a grantee under this competition may award subgrants—to directly carry out project activities described in its application—to the following types of entities: LEAs, postsecondary educational institutions, or State educational agencies. The grantee may also award subgrants to entities it has identified in an approved application.

IV. Application and Submission Information

1. Application Submission Instructions: For information on how to submit an application please refer to our Common Instructions for Applicants to Department of Education Discretionary Grant Programs, published in the Federal Register on February 12, 2018 (83 FR 6003), and available at www.gpo.gov/fdsys/pkg/FR-2018-02-12/pdf/2018-02558.pdf.

2. Submission of Proprietary Information: Given the types of projects that may be proposed in applications for the Pathways to STEM Apprenticeship grants competition, your application may include business information that you consider proprietary. In 34 CFR 5.11 we define “business information” and describe the process we use in determining whether any of that information is proprietary and, thus, protected from disclosure under Exemption 4 of the Freedom of Information Act (5 U.S.C. 552, as amended). Because we may make successful applications available to the public, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: Grant funds may not be used for wages or salaries of students in Apprenticeships. We reference additional regulations outlining funding restrictions in the Applicable Regulations section of this notice.

5. Recommended Page Limit: The application narrative is where you, the applicant, address the selection criteria that reviewers use to evaluate your application. We recommend that you (1) limit the application narrative to no more than 35 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Calibri, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. The maximum score for all of the selection criteria is 100 points. The maximum score for each criterion is indicated in parentheses. In addressing the criteria, applicants are encouraged to make explicit connections to the priorities and requirements listed elsewhere in this notice. The selection criteria for this competition are as follows:

(a) Quality of the project design. (45 points)

The Secretary considers the quality of the project design. In determining the quality of the project design for the proposed project, the Secretary considers—

(1) The likelihood that the proposed project will result in system change or improvement. (up to 15 points)

(2) The extent to which the proposed project will integrate with or build on similar or related efforts to improve relevant outcomes (as defined in 34 CFR 77.1(c)), using existing funding streams from other programs or policies supported by community, State, and Federal resources. (up to 15 points)

(3) The extent to which the services to be provided by the proposed project involve the collaboration of appropriate partners for maximizing the effectiveness of project services. (up to 15 points)

(b) Quality of the management plan. (25 points)

The Secretary considers the quality of the management plan for the proposed project. In determining the quality of the management plan for the proposed project, the Secretary considers the adequacy of the management plan to achieve the objectives of the proposed project on time and within budget, including clearly defined responsibilities, timelines, and milestones for accomplishing project tasks.

(c) Adequacy of resources. (30 points)

The Secretary considers the adequacy of resources for the proposed project. In determining the adequacy of resources for the proposed project, the Secretary considers—

(1) The extent to which the budget is adequate to support the proposed project. (up to 10 points)

(2) The relevance and demonstrated commitment of each partner in the proposed project to the implementation and success of the project. (up to 10 points)

(3) The potential for continued support of the project after Federal funding ends, including, as appropriate, the demonstrated commitment of appropriate entities to such support. (up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.117. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: Pursuant to the Government Performance and Results Act of 1993, the Department has established the following performance measures that it will use to evaluate the overall effectiveness of the grantee's project, as well as the Pathways to STEM Apprenticeship grant program as a whole:

(a) The total number and percentage of CTE Students enrolled in project activities during the grant period, including CTE Students in Apprenticeships funded under this project and other grant activities.

(b) The total number and percentage of CTE Students enrolled in high school and participating in Apprenticeships funded under this project.

(c) The total number and percentage of CTE Students enrolled in high school and participating in Apprenticeships funded under this project who are identified as members of a Special Population.¹⁵

¹⁵ With regard to individuals with disabilities, this would include students with disabilities receiving services under Section 504 of the Rehabilitation Act of 1973 (Section 504) (commonly referred to as Section 504-only students), and students with disabilities identified as a child with a disability under section 602(3) of the IDEA.

(d) The total number and percentage of CTE Students enrolled in high school and participating in Apprenticeships funded under this project who complete high school.

(e) The total number and percentage of CTE Students enrolled in high school and participating in Apprenticeships funded under this project who earn postsecondary credits during enrollment in the project.

VII. Other Information

Accessible Format: Individuals with disabilities can obtain this document and a copy of the application package in an accessible format (e.g., braille, large print, audiotape, or compact disc) on request to the program contact person listed under FOR FURTHER INFORMATION CONTACT. If you use a TDD or a TTY, call the FRS, toll free, at 1-800-877-8339.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 15, 2018.
Michael E. Wooten,
Acting Assistant Secretary for Career, Technical, and Adult Education.

[FR Doc. 2018-10671 Filed 5-17-18; 8:45 am]

BILLING CODE 4000-01-P